DEPARTMENT OF AGRICULTURE

Animal and Plant Health Inspection Service

7 CFR Part 301

[Docket No. 05-066-2]

Asian Longhorned Beetle; Addition and Removal of Quarantined Areas in New Jersey

AGENCY: Animal and Plant Health Inspection Service, USDA.

ACTION: Affirmation of interim rule as final rule.

SUMMARY: We are adopting as a final rule, without change, an interim rule that amended the regulations by adding a portion of Middlesex and Union Counties, NJ, to the list of quarantined areas and restricting the interstate movement of regulated articles from those areas. The interim rule also removed the areas within Hudson County, NJ, from the list of quarantined areas and removed restrictions on the interstate movement of regulated articles from those areas. These actions were necessary, respectively, to prevent the artificial spread of the Asian longhorned beetle to noninfested areas of the United States and to remove quarantine restrictions that were no longer necessary.

DATES: Effective on September 8, 2006, we are adopting as a final rule the interim rule that became effective on October 18, 2005.

FOR FURTHER INFORMATION CONTACT: Mr. Michael B. Stefan, National Coordinator, Emergency and Domestic Programs, PPQ, APHIS, 4700 River Road Unit 134, Riverdale, MD 20737-1236; (301) 734-7338.

SUPPLEMENTARY INFORMATION:

Background

The Asian longhorned beetle (ALB) regulations in 7 CFR 301.51-1 through 301.51-9 (referred to below as the regulations) restrict the interstate movement of regulated articles from quarantined areas to prevent the artificial spread of ALB to noninfested areas of the United States. Portions of New Jersey and New York are designated as quarantined areas. Quarantined areas are listed in § 301.51-3 of the regulations.

In an interim rule ¹ effective October 18, 2005, and published in the Federal Register on October 24, 2005 (70 FR 61349-61351, Docket No. 05-066-1), we amended the ALB regulations by adding a portion of Middlesex and Union Counties, NJ, to the list of quarantined areas in § 301.51-3 and restricting the interstate movement of regulated articles from those areas. The interim rule also removed the areas within Hudson County, NJ, from the list of quarantined areas in § 301.51-3, which relieved restrictions that were no longer necessary on the interstate movement of regulated articles from this area.

¹ To view the interim rule and the comment we received, go to http://www.regulations.gov, click on the “Advanced Search” tab, and select “Docket Search.” In the Docket ID field, enter APHIS-2005-0078, then click on “Submit.” Clicking on the Docket ID link in the search results page will produce a list of all documents in the docket.

Comments on the interim rule were required to be received on or before December 23, 2005. We received one comment by that date, from a private citizen.

In general, the commenter supported the rule. However, the commenter suggested that inspections be carried out in the areas removed from quarantine in 2 years and again in 5 years to ensure that the beetle has not returned. Although we do not believe further regulation of these areas is necessary, we will continue to survey them to ensure that ALB does not reappear.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 70 FR 61349-61351 on October 24, 2005.

Done in Washington, DC, this 30th day of August 2006.
Kevin Shea,
Acting Administrator, Animal and Plant Health Inspection Service.

[FR Doc. E6-14860 Filed 9-7-06; 8:45 am]

BILLING CODE 3410-34-P